DEPARTMENT OF EDUCATION

[CFDA No. 84.358A]

Small, Rural School Achievement Program

AGENCY: Office of Elementary and Secondary Education, Department of Education.

ACTION: Notice extending application deadline.

SUMMARY: Under the Small, Rural School Achievement Program, we will award grants on a formula basis to eligible local educational agencies (LEAs) to address the unique needs of rural school districts. In this notice, we are extending the deadline for eligible LEAs to apply for fiscal year (FY) 2002 funding under the program.

Application Deadline: All applications must be received electronically by July 24, 2002, 4:30 p.m. Eastern time.

SUPPLEMENTARY INFORMATION: On June 7, 2002, we published in the Federal Register (67 FR 39375-39376) a notice establishing a July 9, 2002 deadline for LEAs to apply for funding under the program. Some LEAs have informed us that they failed to meet this deadline because of natural disasters, changes in personnel, or other circumstances. In order to afford as many eligible LEAs as possible an opportunity to receive funding under this program, we are extending the application deadline until July 24, 2002, 4:30 p.m. Eastern time.

Any eligible LEA that seeks funding under this program and that failed to submit an application by the previously established deadline may apply for funds by the deadline in this notice. An LEA that previously submitted an application by the original application deadline should not re-apply for funding in response to this notice. If you have received a PR-award number (for example, S358A025999), you have already applied for funding and should not respond to this notice.

Electronic Submission of Applications: To receive its share of FY 2002 funding, an eligible LEA must submit an electronic application to the Department by July 24, 2002, 4:30 p.m. Eastern time. Submission of an electronic application involves the use of the Electronic Grant Application System (e-APPLICATION, formerly e-GAPS) portion of the Grant Administration and Payment System (GAPS).

You can access the electronic application for the Small, Rural School Achievement Program at: http://e-grants.ed.gov.

Once you access this site, you will receive specific instructions regarding the information to include in your application.

The regular hours of operation of the e-Grants Web site are from 6 a.m. until 12 midnight (Washington, DC time) on Mondays, Tuesdays, Thursdays and Fridays; and from 6 a.m. until 7 p.m. on Wednesdays and Saturdays. The system is unavailable on the second Saturday of every month, Sundays, and Federal holidays.

Note: On the application deadline date, the e-Grants Web site is available only until 4:30 p.m. Eastern time. Eligible LEAs are encouraged to submit their applications prior to the deadline date.

FOR FURTHER INFORMATION CONTACT: Ms. Milagros Lanauze. Telephone: (202) 401-0039 or via Internet: reap@ed.gov.

If you use a telecommunications device for the deaf (TDD), you may call the Federal Information Relay Service (FIRS) at 1-800-877-8339.

Individuals with disabilities may obtain this notice in an alternative format (e.g., Braille, large print, audiotape, or computer diskette) on request to the contact person listed above.

Electronic Access To This Document: You may view this document, as well as other Department of Education documents published in the Federal Register in text or Adobe Portable Document Format (PDF) on the Internet at the following site: www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Program Authority: Section 6212 of the ESEA, as amended by the No Child Left Behind Act of 2001 (Pub. L. 107-110).

Dated: July 15, 2002.
Susan B. Neuman,
Assistant Secretary for Elementary and Secondary Education.

[FR Doc. 02-18166 Filed 7-17-02; 8:45 am]

BILLING CODE 4000-01-P